DEPARTMENT OF INTERIOR

Fish and Wildlife Service

Notice of Intent To Prepare a Comprehensive Conservation Plan and Environmental Assessment for Grand Bay National Wildlife Refuge in Jackson County, MS, and Mobile County, AL

AGENCY: Fish and Wildlife Service, Interior.

ACTION: Notice of intent.

SUMMARY: The Fish and Wildlife Service, Southeast Region, intends to gather information necessary to prepare a comprehensive conservation plan and environmental assessment pursuant to the National Environmental Policy Act of 1969 and its implementing regulations.

The National Wildlife Refuge System Administration Act of 1966, as amended by the National Wildlife Refuge System Improvement Act of 1997, requires the Service to develop a comprehensive conservation plan for each national wildlife refuge. The purpose in developing a comprehensive conservation plan is to provide refuge managers with a 15-year strategy for achieving refuge purposes and contributing toward the mission of the National Wildlife Refuge System, consistent with sound principles of fish and wildlife management, conservation, legal mandates, and Service policies. In addition to outlining broad management direction on conserving wildlife and their habitats, plans identify wildlife-dependent recreational opportunities available to the public, including opportunities for hunting, fishing, wildlife observation, wildlife photography, and environmental education and interpretation.

The purpose of this notice is to achieve the following:

(1) Advise other agencies and the public of our intentions, and

(2) Obtain suggestions and information on the scope of issue to include in the environmental document.

DATES: An open house style meeting will be held during the scoping phase and public draft phase of the comprehensive conservation plan development process. Special mailings, newspaper articles, and other media announcements will be used to inform the public and state and local government agencies of the dates and opportunities for input throughout the planning process.

ADDRESSES: Comments and requests for more information regarding the Grand Bay National Wildlife Refuge planning process should be sent to: Mike Dawson, Refuge Planner, Fish and Wildlife Service, 6578 Dogwood View Parkway, Suite B, Jackson, Mississippi 39213; Telephone: 601/965-4903, ext. 20; Fax: 601/965-4010; Electronic mail: mike_dawson@fws.gov To ensure consideration, written comments must be received no later than February 13, 2005. Our practice is to make comments, including names and addresses of respondents, available for public review during regular business hours. Individual respondents may request that we withhold their home addresses from the record, which we will honor to the extent allowable by law.

SUPPLEMENTARY INFORMATION: Grand Bay National Wildlife Refuge was established in 1992 under the Emergency Wetlands Resources Act of 1986, to protect one of the largest expanses of undisturbed pine savanna habitats in the Gulf Coastal Plain region. It consists of 9,831 acres within an approved acquisition boundary of 17,741 acres. The refuge also manages 930 acres of Farm Service Agency tracts. The largest portion of the refuge consists of a mosaic of pine savannas, interspersed with poorly drained evergreen bays and pond cypress stands graduating to estuarine salt marshes to the south.

Recreation and education opportunities on the refuge include hunting photography , and wildlife observation. Approximately 2,500 people visit the refuge annually.

The Service will conduct a comprehensive conservation planning process that will provide opportunity for state and local governments, agencies, organizations, and the public to participate in issue scoping and public comment. Comments received by the planning team will be used as part of the planning process.

Authority: This notice is published under the authority of the National Wildlife Refuge System Improvement Act of 1997, Public Law 105-57.

Dated: October 27, 2005.
Cynthia K. Dohner,
Acting Regional Director.

[FR Doc. 05-24592 Filed 12-28-05; 8:45 am]

BILLING CODE 4310-55-M